DEPARTMENT OF VETERANS AFFAIRS

Privacy Act of 1974; System of Records

AGENCY: Department of Veterans Affairs (VA), Veterans Benefits Administration.

ACTION: Rescindment of a system of records.

SUMMARY: This system notice serves to maintain records and provide benefits to repatriated prisoners of war who file claims for a wide variety of Federal veteran's benefits administered by VA at VA facilities located throughout the nation.

DATES: Comments on this rescindment notice must be received no later than 30 days after date of publication in the Federal Register. If no public comment is received during the period allowed for comment or unless otherwise published in the Federal Register by VA, the rescindment will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to Repatriated American Prisoners of War-VA (60VA21). Comments received will be available at regulations.gov for public viewing, inspection or copies.

FOR FURTHER INFORMATION CONTACT: Julian Wright, julian.wright2@va.gov, 202-530-9104, Outreach, Transition, and Economic Development (27), VA Central Office, 810 Vermont Avenue NW, Washington, DC 20420.

SUPPLEMENTARY INFORMATION: The Former Prisoner of War (FPOW) SORN (60VA21) is being rescinded because the information is also covered in the SORN “Compensation, Pension, Education, and Vocational Rehabilitation and Employment Records—VA” (58VA21/22/28).

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on September 8, 2022 for publication.

Dated: September 14, 2022.
Amy L. Rose,
Program Analyst, VA Privacy Service, Office of Information Security, Office of Information and Technology, Department of Veterans Affairs.

System Name and Number:

Repatriated American Prisoners of War-VA (60VA21).

History:

75 FR 61861, October 6, 2010

[FR Doc. 2022-20177 Filed 9-16-22; 8:45 am]

BILLING CODE 8320-01-P